DEPARTMENT OF THE TREASURY

Fiscal Service

Financial Management Service, Senior Executive Service; Financial Management Service Performance Review Board

AGENCY: Financial Management Service, Fiscal Service, Treasury.

ACTION: Notice.

SUMMARY: This notice announces the appointment of members to the Financial Management Service (FMS) Performance Review Board (PRB).

DATES: This notice is effective July 20, 2007.

FOR FURTHER INFORMATION CONTACT: Judith R. Tillman, Deputy Commissioner, Financial Management Service, 401 14th Street, SW., Washington, DC; telephone (202) 874-7000.

SUPPLEMENTARY INFORMATION: Pursuant to 5 U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRb members are as follows:

Primary Members

Judith R. Tillman, Deputy Commissioner.

Rita Bratcher, Assistant Commissioner, Debt Management Services.

Sheryl R. Morrow, Assistant Commissioner, Federal Finance.

Wanda Rogers, Assistant Commissioner, Regional Operations.

Charles R. Simpson, Assistant Commissioner, Information Resources.

D. James Sturgill, Assistant Commissioner, Governmentwide Accounting.

Alternate Members

Scott H. Johnson, Assistant Commissioner, Management (Chief Financial Officer).

Janice Lucas, Assistant Commissioner, Financial Operations.

Dated: July 18, 2007.
Judith R. Tillman,
Deputy Commissioner.

[FR Doc. 07-3531 Filed 7-19-07; 8:45 am]

BILLING CODE 4810-35-M